FEDERAL COMMUNICATIONS COMMISSION

47 CFR Part 73

[DA 04-2913; MB Docket No. 04-357, RM-11076; MB Docket No. 04-358, RM-11071; MB Docket No. 04-359, RM-11072; MB Docket No. 04-360, RM-11073; MB Docket No. 04-361, RM-11074]

Radio Broadcasting Services; Adams, MA; Ashtabula, OH; Crested Butte, CO; Lawrence Park, PA; Roswell, NM

AGENCY: Federal Communications Commission.

ACTION: Proposed rule.

SUMMARY: This document proposes five new FM broadcast allotments in Adams, Massachusetts; Ashtabula, Ohio; Crested Butte, Colorado; Lawrence Park, Pennsylvania; Roswell, New Mexico. The Audio Division, Media Bureau, requests comment on a petition filed by Dana Puopolo, proposing the allotment of Channel 255A at Adams, Massachusetts, as the community's local aural transmission service. That allotment also requires a site change for Channel 255A at Rosendale, NY. Channel 255A can be allotted to Adams in compliance with the Commission's minimum distance separation requirements with a site restriction of 1.6 kilometers (1 mile) west of the community. The reference coordinates for Channel 255A at Adams are 42-37-12 NL and 73-08-12 WL. The reference coordinates for Channel 255A at Rosendale are 41-54-47 NL and 74-09-00 WL. Since Adams is located within 320 kilometers (200 miles) of the U.S.-Canadian border, concurrence from the Canadian government has been requested. See SUPPLEMENTARY INFORMATION, infra.

DATES: Comments must be filed on or before November 8, 2004, and reply comments on or before November 23, 2004.

ADDRESSES: Federal Communications Commission, 445 Twelfth Street, SW., Washington, DC 20554. In addition to filing comments with the FCC, interested parties should serve the petitioner, his counsel, or consultant, as follows: Dana J. Puopolo, 2134 Oak Street, Unit C, Santa Monica, California 90405; Linda A. Davidson, 2134 Oak Street, Unit C, Santa Monica, California 90405.

FOR FURTHER INFORMATION CONTACT: Victoria M. McCauley, Media Bureau, (202) 418-2180.

SUPPLEMENTARY INFORMATION: This is a synopsis of the Commission's Notice of Proposed Rule Making, MB Docket Nos. 04-357, 04-358, 04-359, 04-360, 04-361, adopted September 15, 2004 and released September 17, 2004. The full text of this Commission document is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com.

The Audio Division requests comments on a petition filed by Dana Puopolo, proposing the allotment of Channel 241A at Ashtabula, Ohio, as the community's fourth local aural transmission service. Channel 241A can be allotted to Ashtabula in compliance with the Commission's minimum distance separation requirements with a site restriction of 1.5 kilometers (.09 miles) northwest of the community. The reference coordinates for Channel 241A at Ashtabula are 41-52-38 North Latitude and 80-47-49 West Longitude. Since Ashtabula is located within 320 kilometers (200 miles) of the U.S.-Canadian border, concurrence from the Canadian government has been requested.

The Audio Division requests comments on a petition filed by Linda Davidson proposing the allotment of Channel 246C3 at Crested Butte, Colorado, as the community's second local aural transmission service. Channel 246C3 can be allotted to Crested Butte in compliance with the Commission's minimum distance separation requirements with a site restriction of 8..0 kilometers (5.0 miles) east of the community. The reference coordinates for Channel 246C3 at Crested Butte are 38-50-42 North Latitude and 106-54-00 West Longitude.

The Audio Division requests comment on a petition filed by Dana Puopolo proposing the allotment of Channel 224A at Lawrence Park, Pennsylvania, as the community's first local aural transmission service. Channel 224A can be allotted to Lawrence Park in compliance with the Commission's minimum distance separation requirements with a site restriction of 10.6 kilometers (6.6 miles) southwest of the community. The reference coordinates for Channel 224A at Lawrence Park are 42-06-00 North Latitude and 80-07-48 West Longitude.

The Audio Division requests comment on a petition filed by Dana Puopolo proposing the allotment of Channel 289C0 at Roswell, New Mexico, as the community's thirteenth local aural transmission service. A later filed minor change application filed by Rooney Moon Broadcasting, Inc., licensee of Station Channel KSEL-FM, which conflicts with this proposal will be treated as a counterproposal. Channel 289C0 can be allotted to Roswell in compliance with the Commission's minimum distance separation requirements with a site restriction of 13.4 kilometers (8.3 miles) north of Roswell. The reference coordinates for Channel 289C0 at Roswell are 33-30-50 North Latitude and 104-30-05 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

1. Section 73.202(b), the Table of FM Allotments under Colorado is amended by adding Crested Butte, Channel 246C3.

2. Section 73.202(b), the Table of FM Allotments under Massachusetts, is amended by adding Adams, Channel 224A.

3. Section 73.202(b), the Table of FM Allotments under New Mexico, is amended by adding Channel 289C0 at Roswell.

4. Section 73.202(b), the Table of FM Allotments under Ohio, is amended by adding Channel 241A at Ashtabula.

5. Section 73.202(b), the Table of FM allotments under Pennsylvania, is amended by adding Lawrence Park, Channel 224A.

Federal Communications Commission.
John A. Karousos,
Assistant Chief, Audio Division, Media Bureau.

[FR Doc. 04-21726 Filed 9-27-04; 8:45 am]

BILLING CODE 6712-01-P